DEPARTMENT OF JUSTICE

Notice of Lodging of Consent Decree Under the Clean Air Act

Notice is hereby given that on July 20, 2012, a proposed Consent Decree in United States v. Carmeuse Lime, Inc., Civil Action No. 12 C 5689, was lodged with the United States District Court for the Northern District of Illinois.

The complaint filed by the United States in this action asserts claims under Section 113(b) of the Clean Air Act, as amended (“CAA”), 42 U.S.C. 7413(b), for injunctive relief and the assessment of civil penalties for defendant's violations of emissions limits and reporting requirements for opacity and fugitive dust that are set forth in: Defendant's Title V Operating Permit, issued pursuant to Title V of the CAA, 42 U.S.C. 7661 et seq.; Defendant's Approval to Construct Permit, issued pursuant to CAA regulations for the Prevention of Significant Deterioration of Air Quality (“PSD”), codified at 40 CFR 52.21; the New Source Performance Standards for Lime Manufacturing Plants (“Lime NSPS”), promulgated pursuant to Section 111 of the CAA and codified at 40 CFR part 60, Subpart HH, §§ 60.340-60.344; the National Emission Standards for Hazardous Air Pollutants for Lime Manufacturing Plants (“Lime NESHAP”), promulgated pursuant to Section 112(d) of the CAA and codified at 40 CFR Part 63, Subpart AAAAA, §§ 63.7080-63.7143; and standards set forth in the Illinois State Implementation Plan (“SIP”) adopted by the State of Illinois and approved by EPA pursuant to Section 110 of the Act, 42 U.S.C. 7410.

The proposed Consent Decree will resolve all claims asserted in the complaint. Under the terms of the proposed settlement, Carmeuse Lime will pay a cash civil penalty in the amount of $350,000. Carmeuse will also perform a supplemental environmental project that will involve remediating lead paint hazards in surrounding low income residential properties. The Consent Decree sets forth a detailed and enforceable operational plan to prevent recurrence of lime dust emissions when the facility resumes operations. Stipulated penalties apply for any future violations.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. Carmeuse Lime, Inc. D.J. Ref. number 90-5-2-1-08599/1.

During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax number (202) 514-0097, phone confirmation number (202) 514-5271. If requesting a copy of the Consent Decree from the Consent Decree Library by mail, please enclose a check in the amount of $87.00 (25 cents per page reproduction cost) payable to the U.S. Treasury or, if requesting by email or fax, forward a check in that amount to the Consent Decree Library at the address given above. In requesting a copy exclusive of exhibits and defendants' signatures, please enclose a check in the amount of $17.50 (25 cents per page reproduction cost) payable to the United States Treasury.

Maureen Katz,
Assistant Section Chief, Environmental Enforcement Section, Environment and Natural Resources Division, United States Department of Justice.

[FR Doc. 2012-19948 Filed 8-13-12; 8:45 am]

BILLING CODE 4410-15-P